DEPARTMENT OF JUSTICE

Drug Enforcement Administration

[Docket No. DEA-614]

Importer of Controlled Substances Application: Shertech Laboratories, LLC

ACTION: Notice of application.

DATES: Registered bulk manufacturer of the affected basic class(es), and applicants therefore, may file written comments on or objections to the issuance of the proposed registration on or before May 1, 2020. Such persons may also file a written request for a hearing on the application on or before May 1, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on February 21, 2020, Shertech Laboratories, LLC, 1185 Woods Chapel Road, Duncan, South Carolina 29334 applied to be registered as an importer of the following basic class(es) of a controlled substance:

Controlled substance | Drug code | Schedule
Cocaine | 9041 | II

The company plans to import synthetic derivatives of the listed controlled substance in bulk form to conduct clinical trials. Approval of permit applications will occur only when the registrant's activity is consistent with what is authorized under to 21 U.S.C. 952(a)(2). Authorization will not extend to the import of FDA approved or non-approved finished dosage forms for commercial sale.

William T. McDermott,
Assistant Administrator.

[FR Doc. 2020-06762 Filed 3-31-20; 8:45 am]

BILLING CODE 4410-09-P